DEPARTMENT OF HOUSING AND URBAN DEVELOPMENT

[Docket No. FR-4909-N-10]

Notice of Proposed Information Collection for Public Comment on How's HUD Doing in 2005? A HUD Partners Survey

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: January 11, 2005.

ADDRESSES: Interested persons are invited to submit comments regarding this proposal. Comments should refer to the proposal by name and should be sent to: Reports Liaison Officer, Office of Policy Development and Research, Department of Housing and Urban Development, 451 7th Street, SW., Room 8226, Washington, DC 20410.

FOR FURTHER INFORMATION CONTACT: Cheryl A. Levine, Department of Housing and Urban Development, Office of Policy Development and Research, 451 7th Street, SW., Room 8140, Washington, DC 20410; telephone (202) 708-3700, extension 3928 (this is not a toll-free number). Copies of the proposed data collection instruments and other available documents may be obtained from Ms. Levine.

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice also lists the following information:

Title of Proposal: How's HUD Doing in 2005? A HUD Partners Survey.

Description of the need for the information and proposed use: HUD's Annual Performance Plan requires the Department to measure the satisfaction level of its partners. A baseline satisfaction survey was conducted and published in 2001. This proposed effort, a follow-up to the 2001 study, is a survey of the people and organizations HUD works with to implement its programs, in particular: local governments, housing agencies, community development departments, fair housing agencies, multi-family housing entities, and nonprofit housing organizations.

Members of affected public: Members of the following groups will be surveyed: local elected officials, city and county community development department directors, public housing authority directors, owners of HUD-assisted multifamily housing properties, directors of nonprofit organizations, and fair housing agency directors.

Estimation of the total numbers of hours needed to prepare the information collection including number of respondents, frequency of response, and hours of response: Approximately 2,500 partners will be surveyed on a one-time basis. Consistent with the baseline study, each survey is expected to take 19 minutes. Total burden hours are 792.

Status of the proposed information collection: Pending OMB approval.

Authority: Section 3506 of the Paperwork Reduction Act of 1995, 44 U.S.C. Chapter 35, as amended.

Dated: November 4, 2004.
Dennis C. Shea,
Assistant Secretary for Policy, Development and Research.

[FR Doc. 04-25157 Filed 11-10-04; 8:45 am]

BILLING CODE 4210-62-M